DEPARTMENT OF STATE

[Public Notice 5577]

Determination on the Use of FY 2005 Supplemental Peacekeeping Operations Funds To Support the Global War on Terrorism

The Secretary of State, pursuant to the Emergency Supplemental Appropriations Act for Defense, the Global War on Terror, and Tsunami Relief (P.L. 109-13) and the President's delegation of his authority to make the necessary determination on the use of these funds, determined on September 9th that the use of the $30 million in FY 2005 supplemental peacekeeping operations funds in Lebanon and Kyrgyz Republic will support the global war on terrorism.

Dated: September 29, 2006.
Michael W. Coulter,
Deputy Assistant Secretary , Bureau of Political-Military Affairs, Department of State.

BILLING CODE 4710-27-P

[FR Doc. 06-8609 Filed 10-10-06; 8:45 am]

BILLING CODE 4710-27-C